DEPARTMENT OF AGRICULTURE

Rural Housing Service

Funding Opportunity: Section 514 Farm Labor Housing Loans and Section 516 Farm Labor Housing (FLH) Grants for Off-Farm Housing

AGENCY: Rural Housing Service, USDA.

ACTION: Notice; correction.

SUMMARY: The Rural Housing Service is correcting a notice published in the Federal Register on Thursday, April 19, 2007. This action is taken to correct a State Office address referenced in the contact information of the application and submission portion of the notice. This correction will insure that the applicant receives the most current and accurate information necessary for the submission of the proposal packages.

Accordingly, the notice published on April 19, 2007 (72 FR 19680-19684) is corrected as follows:

On page 19680, in the third column under the heading, “Submission Address,” the Idaho State Office address is added to read as follows: Idaho State Office, 9173 West Barnes Drive, Suite A1, Boise, ID 83709, (208) 378-5627, Roni Atkins.

FOR FURTHER INFORMATION CONTACT: For general information, applicants may contact Henry Searcy, Senior Loan Specialist, Multi-Family Housing Processing Division, Rural Housing Service, United States Department of Agriculture, Stop 0781, 1400 Independence Avenue, SW., Washington, DC, 20250-0781, telephone (202) 720-1753 (voice) (this is not a toll free number) or (800) 877-8339 (TDD-Federal Information Relay Service) or via e-mail at, Henry.Searcy@wdc.usda.gov, or FAX (202) 690-3444.

Dated: May 17, 2007.
Chadwick O. Parker,
Acting Administrator, Rural Housing Service.

[FR Doc. E7-10213 Filed 5-25-07; 8:45 am]

BILLING CODE 3410-XV-P